NATIONAL FOUNDATION ON THE ARTS AND THE HUMANITIES

Institute of Museum and Library Services

Submission for OMB Review, Comment Request, Proposed Collection: Guidelines for IMLS Grants to States Five-Year Evaluation

AGENCY: Institute of Museum and Library Services, National Foundation on the Arts and the Humanities.

ACTION: Submission for OMB review, comment request.

SUMMARY: The Institute of Museum and Library Services announces the following information collection has been submitted to the Office of Management and Budget (OMB) for review and approval in accordance with the Paperwork Reduction Act. This program helps to ensure that requested data can be provided in the desired format, reporting burden (time and financial resources) is minimized, collection instruments are clearly understood, and the impact of collection requirements on respondents can be properly assessed. By this notice, IMLS is soliciting comments concerning the forms and instructions for the IMLS Grants to States Program Five Year Evaluation forms and instructions for the next three years. A copy of the proposed information collection request can be obtained by contacting the individual listed below in the ADDRESSES section of this notice.

DATES: Comments must be submitted to the office listed in the CONTACT section below on or before May 22, 2019.

OMB is particularly interested in comments that help the agency to:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology (e.g., permitting electronic submission of responses).

ADDRESSES: Comments should be sent to Office of Information and Regulatory Affairs, Attn.: OMB Desk Officer for Education, Office of Management and Budget, Room 10235, Washington, DC 20503, (202) 395-7316.

FOR FURTHER INFORMATION CONTACT: Dr. Sandra Webb, Director of Grant Policy and Management, Institute of Museum and Library Services, 955 L'Enfant Plaza North SW, Suite 4000, Washington, DC 20024-2135. Dr. Webb can be reached by Telephone: 202-653-4718 Fax: 202-653-4608, or by email at swebb@imls.gov, or by teletype (TTY/TDD) for persons with hearing difficulty at 202-653-4614.

SUPPLEMENTARY INFORMATION: The Institute of Museum and Library Services is the primary source of federal support for the nation's libraries and museums. We advance, support, and empower America's museums, libraries, and related organizations through grant making, research, and policy development. Our vision is a nation where museums and libraries work together to transform the lives of individuals and communities. To learn more, visit www.imls.gov.

Current Actions: The Grants to States program is the largest grant program administered by IMLS. Through this program, IMLS provides financial assistance to develop library services throughout the States, U.S. Territories, and the Freely Associated States. IMLS funds support projects that, among other purposes, promote literacy and education; enhance and expand the services and resources provided by all types of libraries; enhance the skills of the current and future library workforce and leadership; develop public-private partnerships with other agencies and community-based organizations; and target library services to individuals with diverse geographic, cultural and socio-economic backgrounds, individuals with disabilities, and individuals from other underserved communities. The program recognizes the increasing importance of information technology by emphasizing programs that teach digital literacy skills; develop library services that provide all users with access to information through local, State, regional, national, and international collaborations and networks; and establish or enhance electronic and other linkages among and between libraries and other entities. A State Library Administrative Agency (“SLAA”) is the official agency of a State charged by law with the extension and development of public library services throughout the State. To receive funds under the Grants to States program, each SLAA must submit to the Director of IMLS a State Plan detailing certain goals, assurances, and procedures for a five-year period. A State Plan is a document that identifies a State's library needs, sets forth the activities to be taken toward meeting the identified needs supported with the assistance of Federal funds made available under subchapter II (Library Services and Technology, “LSTA”) and provides assurances that the officially designated SLAA has the fiscal and legal authority and capability to administer all aspects of any award under the Grants to States program. The State Plan must also provide assurances for establishing the State's policies, priorities, criteria, and procedures necessary to the implementation of all programs under the LSTA.

IMLS authorizing legislation directs State Library Administrative Agencies (SLAAs) to “independently evaluate, and report to the Director regarding, the activities assisted under this subchapter, prior to the end of the Five Year Plan.” This evaluation provides SLAAs an opportunity to measure progress in meeting the goals set in their approved Five Year Plans with a framework to synthesize information across all state reports in telling a national story.

This action is to seek approval for the instructions for the Guidelines for IMLS Grants to States Five-Year Evaluation for the next three years.

Agency: Institute of Museum and Library Services.

Title: Guidelines for IMLS Grants to States Five-Year Evaluation.

OMB Number: 3137-0090.

Frequency: Once every five years.

Affected Public: State Library Administrative Agencies.

Number of Respondents: 59.

Estimated Average Burden per Response: 90 hours.

Estimated Total Annual Burden: 5,310 hours.

Total Annualized capital/startup costs: n/a.

Total Annual costs: $148,361.

Dated: April 17, 2019.
Kim Miller,
Grants Management Specialist, Institute of Museum and Library Services.

[FR Doc. 2019-08055 Filed 4-19-19; 8:45 am]

BILLING CODE 7036-01-P